ENVIRONMENTAL PROTECTION AGENCY

40 CFR Part 63

[AZ-NESHAPS-131b; FRL-7935-1]

Delegation of National Emission Standards for Hazardous Air Pollutants for Source Categories; State of Arizona; Pima County Department of Environmental Quality; State of Nevada; Nevada Division of Environmental Protection

AGENCY: Environmental Protection Agency (EPA).

ACTION: Proposed rule.

SUMMARY: Pursuant to section 112(l) of the 1990 Clean Air Act, EPA granted delegation of specific national emission standards for hazardous air pollutants (NESHAPs) to the Pima County Department of Environmental Quality (PDEQ) and the Nevada Division of Environmental Protection on December 28, 2004, and April 15, 2005, respectively. EPA is proposing to revise regulations to reflect the current delegation status of NESHAPs in Arizona and Nevada.

DATES: Any comments on this proposal must arrive by August 8, 2005.

ADDRESSES: Send comments to Andrew Steckel, Rulemaking Office Chief (AIR-4), U.S. Environmental Protection Agency, Region IX, 75 Hawthorne Street, San Francisco, CA 94105-3901, or e-mail to steckel.andrew@epa.gov, or submit comments at http://www.regulations.gov. Copies of the request for delegation and other supporting documentation are available for public inspection at EPA's Region IX office during normal business hours by appointment.

FOR FURTHER INFORMATION CONTACT: Mae Wang, EPA Region IX, (415) 947-4124, wang.mae@epa.gov.

SUPPLEMENTARY INFORMATION: This document concerns the delegation of unchanged NESHAPs to the Pima County Department of Environmental Quality and the Nevada Division of Environmental Protection. In the Rules and Regulations section of this Federal Register, EPA is amending regulations to reflect the current delegation status of NESHAPs in Arizona and Nevada. EPA is taking direct final action without prior proposal because the Agency believes these actions are not controversial. If we receive adverse comments, however, we will publish a timely withdrawal of the direct final rule and address the comments in subsequent action based on this proposed rule. Please note that if we receive adverse comment on an amendment, paragraph, or section of this rule and if that provision may be severed from the remainder of the rule, we may adopt as final those provisions of the rule that are not the subject of an adverse comment.

We do not plan to open a second comment period, so anyone interested in commenting should do so at this time. If we do not receive adverse comments, no further activity is planned. For further information, please see the direct final action.

Authority: This action is issued under the authority of Section 112 of the Clean Air Act, as amended, 42 U.S.C. 7412.

Dated: June 24, 2005.
Deborah Jordan,
Director, Air Division, Region IX.

[FR Doc. 05-13484 Filed 7-7-05; 8:45 am]

BILLING CODE 6560-50-P